FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Uniform Application/Uniform Termination for Municipal Securities Principal or Representative.

OMB Number: 3064-0022.

Form Number: MSD-4; MSD-5.

Annual Burden:

Estimated annual number of respondents: 75.

Estimated time per response: 1 hour.

Total annual burden hours: 75 hours.

Expiration Date of OMB Clearance: August 31, 2002.

SUPPLEMENTARY INFORMATION: An insured state nonmember bank which serves as a municipal securities dealer must file Form MDS-4 or MSD-5, as applicable, to permit an employee to become associated or to terminate the association with the municipal securities dealer. FDIC uses the form to ensure compliance with the professional requirements for municipal securities dealers in accordance with the rules of the Municipal Securities Rulemaking Board.

2. Type of Review: Renewal of a currently approved collection.

Title: Request for Deregistration for Registered Transfer Agents.

OMB Number: 3064-0027.

Annual Burden:

Estimated annual number of respondents: 18.

Estimated time per response: .42 hours.

Total annual burden hours: 7.56 hours.

Expiration Date of OMB Clearance: August 31, 2002.

SUPPLEMENTARY INFORMATION: An insured nonmember bank or a subsidiary of such a bank that functions as a transfer agent may withdraw from registration as a transfer agent by filing a written notice of withdrawal with the FDIC as provided by 12 CFR 341.5.

3. Type of Review: Renewal of a currently approved collection.

Title: Summary of Deposits.

OMB Number: 3064-0061.

Annual Burden:

Estimated annual number of respondents: 6,000.

Estimated time per response: 3 hours.

Total annual burden hours: 18,000 hours.

Expiration Date of OMB Clearance: August 31, 2002.

SUPPLEMENTARY INFORMATION: The Summary of Deposits annual survey obtains data about the amount of deposits held at each office of all banks with branches in the United States. The survey data provides a basis for measuring the competitive impact of bank mergers and has additional use in banking research.

OMB Reviewer: Alexander T. Hunt, (202) 395-7860, Office of Management and Budget, Office of Information and Regulatory Affairs, Washington, DC 20503.

FDIC Contact: Tamara R. Manly, (202) 898-7453, Legal Division, Room MB-3109, Federal Deposit Insurance Corporation, 550 17th Street, NW., Washington, DC 20429.

Comments: Comments on these collections of information are welcome and should be submitted on or before August 9, 2002 to both the OMB reviewer and the FDIC contact listed above.

ADDRESSES: Information about this submission, including copies of the proposed collections of information, may be obtained by calling or writing the FDIC contact listed above.

Dated: July 3, 2002.
Federal Deposit Insurance Corporation.
Robert E. Feldman,
Executive Secretary.

[FR Doc. 02-17268 Filed 7-9-02; 8:45 am]

BILLING CODE 6714-01-P